NATIONAL TRANSPORTATION SAFETY BOARD

SES Performance Review Board

AGENCY: National Transportation Safety Board.

ACTION: Notice.

SUMMARY: Notice is hereby given of the appointment of members of the National Transportation Safety Board Performance Review Board (PRB).

FOR FURTHER INFORMATION CONTACT: Emily Carroll, Chief, Human Resources Division, Office of Administration, National Transportation Safety Board, 490 L'Enfant Plaza, SW., Washington, DC 20594-0001, (202) 314-6233.

SUPPLEMENTARY INFORMATION: Section 4314(c)(1) through (5) of Title 5, United States Code requires each agency to establish, in accordance with regulations prescribed by the Office of Personnel Management, one or more SES Performance Review Boards. The board reviews and evaluates the initial appraisal of a senior executive's performance by the supervisor and considers recommendations to the appointing authority regarding the performance of the senior executive.

The following have been designated as members of the Performance Review Board of the National Transportation Safety Board:

The Honorable Christopher A. Hart, Vice Chairman, National Transportation Safety Board; PRB Chair.

The Honorable Mark R. Rosekind, Member, National Transportation Safety Board.

Steven Goldberg, Chief Financial Officer, National Transportation Safety Board.

Dr. John Cavolowsky, Director, Airspace Systems Program Office, Aeronautics Research Mission Directorate, National Aeronautics and Space Administration.

Jerold Gidner, Special Counselor to the Assistant Secretary-Indian Affairs, Department of the Interior.

David L. Mayer, Managing Director, National Transportation Safety Board.

The Honorable Robert L. Sumwalt, III, Member, National Transportation Safety Board. (Alternate).

Florence Carr, Deputy Managing Director, Federal Maritime Commission. (Alternate).

Christopher W. Warner, General Counsel, U.S. Chemical Safety and Hazard Investigation Board. (Alternate).

Dated: November 8, 2010.
Candi Bing,
Federal Register Coordinator.

[FR Doc. 2010-28652 Filed 11-12-10; 8:45 am]

BILLING CODE P